DEPARTMENT OF INTERIOR

National Park Service

[NPS-WASO-NRSS-SSD-15858; PPWONRADE3, PPMRSNR1Y.NM0000]

Proposed Information Collection; Programmatic Clearance for NPS-Sponsored Public Surveys.

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this collection of information (OMB #1024-0224). This IC is scheduled to expire on August 31, 2014. We may not conduct or sponsor, and a person is not required to respond to, a collection of information unless it displays a currently valid OMB control number.

DATES: To ensure that your comments on this IC are considered, we must receive them on or before July 28, 2014.

ADDRESSES: Direct all written comments on this IC to Phadrea Ponds, Information Collection Coordinator, National Park Service, 1201 Oakridge Drive, Fort Collins, CO 80525 (mail); or Phadrea_Ponds@nps.gov (email). Please reference Information Collection 1024-0224 in the subject line.

FOR FURTHER INFORMATION CONTACT: Bret Meldrum, Chief, Social Science Program, National Park Service, 1201 Oakridge Drive, Fort Collins, CO 80525-5596 (mail); Bret_Meldrum@nps.gov (email); or 970-267-7295 (phone).

I. Abstract

The NPS needs information concerning park visitors and visitor services, potential park visitors, and residents of communities near parks to provide National Park Service (NPS) managers with usable information for improving the quality and utility of agency programs, services, and planning efforts. Since many of the NPS surveys are similar in terms of the populations being surveyed, the types of questions being asked, and research methodologies, the NPS proposes to renew its clearance from OMB for a Generic Information Collection (1024-0224) of NPS-sponsored surveys. Since 1999, the benefits of this generic approval program have been significant to the NPS, Department of the Interior, OMB, NPS cooperators, and the public. Significant time and cost savings have been incurred and more than 550 surveys have been conducted in units throughout the National Park System. Approval is typically granted within 60 days or less from the date the Principal Investigator (PI) first submits the survey package to the NPS Information Review Coordinator for review. This is a significant reduction over the approximately 6-9 months involved in the regular OMB review process. We are requesting an extension of this collection for the purposes of revising the current Pool of Known questions that are the primary function of this process. We are planning to host a series of workshops of social science researches to update the original list of questions and topics that are more than 20 years old because many questions in the current listing are underutilized. This extension will allow for the effective outreach prescribed in item 8 of Supporting Statement Part A.

II. Data

OMB Number: 1024-0224.

Title: Programmatic Clearance for NPS-Sponsored Public Surveys.

Type of Request: Extension of a currently approved collection.

Affected Public: General public, visitors and potential visitors to parks, and residents of communities near parks.

Respondent Obligation: Voluntary.

Estimated Annual Number of Respondents: 140,000 respondents.

Estimated Total Annual Burden Hours: 46,666 hours. We estimate the public reporting burden averages 20 minutes per response.

Estimated Reporting and Recordkeeping “Non-Hour Cost” Burden: We have not identified any “non-hour cost” burdens associated with this collection of information.

III. Request for Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: May 20, 2014.
Madonna L. Baucum,
Information Collection Clearance Officer, National Park Service.

[FR Doc. 2014-12101 Filed 5-23-14; 8:45 am]

BILLING CODE 4310-EH-P